DEPARTMENT OF THE INTERIOR

National Park Service

[NPS-IMR-YELL-17104; PPWONRADE2, PMP00EI05.YP0000, 15XP103905]

Environmental Impact Statement for a Management Plan for Yellowstone-Area Bison

AGENCY: National Park Service, Interior.

ACTION: Notice of intent.

SUMMARY: The National Park Service (NPS) and the State of Montana (State) are serving as joint lead agencies in the preparation of an Environmental Impact Statement (EIS) for a plan to manage a wild and migratory population of Yellowstone-area bison, while minimizing brucellosis transmission between these wild bison and livestock to the extent practicable.

DATES: Interested individuals, organizations, and agencies are encouraged to provide written comments regarding the scope of issues and alternatives to be addressed in the EIS. The NPS and the State request that comments be submitted within the 90-day comment period, which begins on the date this Notice of Intent is published in the Federal Register. A 90-day comment period has been established to maximize the opportunity for agencies, members of the public and stakeholders to submit comments for consideration in this planning effort. The NPS and State intend to hold public scoping meetings on the EIS within the 90-day comment period. Specific dates, times and locations of the public scoping meetings will be made available via a joint press release to local media, a public scoping brochure to be mailed or emailed to interested parties and on the NPS's Planning, Environment and Public Comment (PEPC) Web site at http://parkplanning.nps.gov/YellBisonPlan. The NPS and State will provide additional opportunities for the public to offer written comments upon publication of the draft plan/EIS.

ADDRESSES: Information, including a copy of the public scoping brochure, will be available for public review online at http://parkplanning.nps.gov/YellBisonPlan. Limited copies of the brochure will also be available in the Mailroom at the park's Administration Building in Mammoth Hot Springs, Yellowstone National Park, WY and by request.

SUPPLEMENTARY INFORMATION: Bison are currently managed under the 2000 Interagency Bison Management Plan (IBMP) and subsequent adaptive management adjustments (Information available at www.ibmp.info). Because of new information and changed conditions since the 2000 IBMP, a new plan is being prepared, along with an environmental impact statement (EIS), pursuant to the National Environmental Policy Act of 1969, 42 U.S.C. 4332(2)(C). The purpose of the new plan/EIS is to conserve a wild and migratory population of Yellowstone-area bison, while minimizing brucellosis transmission between these wild bison and livestock to the extent practicable.

The NPS will exercise decision-making authority on the EIS and its associated Record of Decision (ROD) for NPS actions within the boundary of Yellowstone National Park, and the State will exercise decision-making authority on the EIS and its associated ROD for actions on lands in Montana outside the park's boundary for which the State has jurisdiction. The NPS and State will continue to implement the 2000 IBMP, as adjusted, within and outside Yellowstone National Park through coordination with the other IBMP partners until a new decision is made through this planning process.

The following range of preliminary draft alternative concepts has been developed for review and comment. The alternative concepts and management tools under consideration may change based upon input received during public scoping and throughout the development of the plan/EIS.

• Alternative 1 (No-Action Alternative) would continue implementation of the 2000 IBMP, as adjusted. As part of the existing IBMP, this alternative focuses on reducing the risk of brucellosis transmission from bison to cattle by managing bison that leave Yellowstone National Park and enter the State of Montana. It also seeks to maintain Montana's brucellosis-free status for domestic livestock. The population guideline for Yellowstone-area bison in the 2000 IBMP and under this alternative is 3,000 animals.

• Alternative 2 (Minimize Human Intervention) would prioritize bison conservation and minimize human intervention in the management of Yellowstone-area bison. Bison abundance would primarily be regulated through public and treaty hunting on lands outside of the park in Montana, and natural processes. The maximum population limit of bison under this alternative would be based on estimates of food-limited carrying capacity (~7,500 bison). Other wildlife management tools, such as habitat enhancement, could also be implemented. The risk of brucellosis transmission from bison to cattle would be managed through physical separation and limited hazing of bison back into the park. However, there would be no spring haze-back date for bison to be returned to the park. There would be no disease suppression efforts or research to improve suppression techniques in wildlife.

• Alternative 3 (Limit Bison Migration into Montana) would focus on maintaining bison numbers below 3,000 animals, the level at which large migrations would likely occur during winter months, thus limiting the number of bison that migrate out of the park and into the State of Montana. Brucellosis transmission would be minimized through population control, separation of bison and cattle and hazing of bison back into the park. In spring, bison would be hazed back into the park by May 1 along the northern park boundary and May 15 along the western park boundary. Public and treaty hunting would occur outside of the park. No brucellosis disease suppression actions for wildlife would be implemented, but research would be conducted to investigate future disease suppression tools for cattle and wildlife.

• Alternative 4 (Suppress Brucellosis Transmission) would prioritize the prevention of brucellosis transmission between bison and livestock through a variety of tools, including disease suppression techniques, as practicable. Suppression tools may include capturing bison at facilities inside or outside Yellowstone National Park, culling of likely infectious bison, vaccination of bison at capture facilities, sterilization of bison before shipment to terminal pastures and adjusting land use by cattle. The population guideline for Yellowstone-area bison under this alternative would be 3,000 animals and would include specific tolerance thresholds north and west of the park in the State of Montana. Bison outside of the park on adjacent lands in Montana would be managed within an established boundary to minimize disease transmission, while also considering private property and public safety concerns. Public and treaty hunting would occur outside of the park.

• Alternative 5 (Tolerance in Montana Linked to Overall Bison Abundance) would seek to expand bison tolerance north and west of the park year-round within specific geographic boundaries (e.g. within the Gardiner Basin and up to the Taylor Fork drainage). The current interagency bison population management guideline of 3,000 bison would be maintained. Tolerance thresholds for bison outside of the park in the State of Montana would depend on the overall number of bison in the population, with tolerance for bison in Montana increasing as the population approaches the population guideline. There would be no haze-back dates, but the agencies would adhere to all other existing procedures in the 2000 IBMP, as adjusted. Other wildlife management tools, such as those used to manage other wildlife species (e.g., habitat enhancement), could be implemented. Public and treaty hunting would occur outside of the park. No brucellosis disease suppression actions for wildlife would be implemented, but research would be conducted to investigate future disease suppression tools for cattle and wildlife.

• Alternative 6 (Balance Bison Conservation and Brucellosis Transmission Risk) would allow for the total bison population to vary over time within a defined range (Objective = 2,500-4,500 bison) and would also establish specific tolerance thresholds north and west of the park in the State of Montana. Habitat enhancement, longer tolerance in spring, or year-round tolerance for some bison in Montana could be implemented under this alternative. Tools such as hazing, public and treaty hunting and culling near the park boundary would be used to regulate population size and distribution, minimize brucellosis transmission from bison to cattle and protect property and human safety. No brucellosis disease suppression actions for wildlife would be implemented, but research would be conducted to investigate future disease suppression tools for cattle and wildlife.

Under any proposed action alternative, the following would be implemented: (1) Yellowstone bison would be managed as wildlife in the park and within defined management areas in Montana, (2) public and treaty hunting of bison would occur outside of the park in Montana, (3) bison management actions would be implemented to protect private property and human safety, (4) a public engagement program would be implemented to facilitate the exchange of information between bison managers, scientists, and the public.

If you wish to comment during the 90-day public comment period, you may use any one of several methods. The preferred method for submitting comments to the NPS and State of Montana is on the NPS PEPC Web site at http://parkplanning.nps.gov/YellBisonPlan. You may also mail or hand-deliver your comments to the Superintendent, Yellowstone National Park, Bison Management Plan, P.O. Box 168, Yellowstone National Park, Wyoming 82190. Comments will also be accepted during public meetings. Comments will not be accepted by fax, email, or any other way than those specified above. Bulk comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Al Nash, Chief of Public Affairs, Yellowstone National Park, Bison Management Plan, P.O. Box 168, Yellowstone National Park, Wyoming 82190, or by telephone at (307) 344-2015.

Dated: January 22, 2015.
Sue E. Masica,
Regional Director, Intermountain Region, National Park Service.

[FR Doc. 2015-05962 Filed 3-13-15; 8:45 am]

BILLING CODE 4312-CB-P